DEPARTMENT OF AGRICULTURE

Grain Inspection, Packers and Stockyards Administration

Amended Designation for Gulf Country Inspection and Weighing Service, Inc.

AGENCY: Grain Inspection, Packers and Stockyards Administration, USDA.

ACTION: Notice.

SUMMARY: GIPSA is announcing the designation of Gulf Country Inspection and Weighing Service, Inc. (Gulf Country) to provide official services under the United States Grain Standards Act (USGSA), as amended. Gulf Country's geographical area is amended to include the unassigned area of Southeast Texas announced in the Federal Register on March 19, 2014. In addition, GIPSA is announcing the designation of Gulf Country to provide Class X or Class Y weighing services under the United States Grain Standards Act (USGSA), as amended.

DATES: Effective Date: July 1, 2014.

ADDRESSES: Eric J. Jabs, Chief, USDA, GIPSA, FGIS, QACD, QADB, 10383 North Ambassador Drive, Kansas City, MO 64153.

FOR FURTHER INFORMATION CONTACT: Eric J. Jabs, 816-659-8408 or Eric.J.Jabs@usda.gov.

Read Applications: All applications and comments will be available for public inspection at the office above during regular business hours (7 CFR 1.27(c)).

SUPPLEMENTARY INFORMATION: In the March 19, 2014 Federal Register Notice (79 FR 15307), GIPSA requested applications for designation to provide official services in unassigned areas of Southeast Texas. Applications were due by April 18, 2014. GIPSA received seven comments, representing six grain companies and one trade association in support of Gulf Country's designation for the geographical area announced in the Federal Register. The commenters stated customer service, improved scheduling, and reduced cost in support of Gulf Country.

Gulf Country was the sole applicant for designation to provide official services in this area announced in the Federal Register. As a result, GIPSA did not ask for additional comments.

GIPSA evaluated all available information regarding the designation criteria in section 79(f) of the USGSA (7 U.S.C. 79(f)) and determined that Gulf Country is qualified to provide official services in the geographic area specified in the Federal Register Notice published on March 19, 2014.

Pursuant to Section 79(f)(2) of the United States Grain Standards Act, the following amended geographic area, is assigned to Gulf Country:

In Texas

Bounded on the north by northern Lampasas, Coryell, McLennan, Limestone, Freestone, Anderson, Cherokee, Nacogdoches, San Augustine, and Sabine County Line east to the Texas State Line;

Bounded on the east by the Eastern Texas State Line.

Bounded on the south by the Southern Texas State Line.

Bounded on the west by the western Cameron, Hidalgo, Starr, Zapata, Duval, McMullen, Atascosa, Bexar, Comal, Blanco, Burnet and Lampasas County Lines.

Excludes export port locations serviced by GIPSA's League City Field Office, Beaumont Sub-office, and Corpus Christi Duty Point.

In addition, Gulf County asked GIPSA to amend their designation to include official weighing services. Section 79a of the USGSA authorizes the Secretary to designate authority to perform official weighing to an agency providing official inspection services within a specified geographic area, if such agency is qualified under section 79 of the USGSA. GIPSA evaluated information regarding the designation criteria in section 79 of the USGSA and determined that Gulf Country is qualified to provide official weighing in their designated area.

Gulf Country's designation is amended to provide official services in these specified areas and Class X or Class Y weighing, effective July 1, 2014 to December 31, 2014.

Interested persons may obtain official services by contacting this agency at the following telephone number:

Official agency | Headquarters location and telephone | Amended designation start | Amended designation end
Gulf Country | Saginaw, TX—(807) 306-5900 | 7/1/2014 | 12/31/2014

Section 79(f) of the USGSA authorizes the Secretary to designate a qualified applicant to provide official services in a specified area after determining that the applicant is better able than any other applicant to provide such official services (7 U.S.C. 79(f)).

Under section 79(g) of the USGSA, designations of official agencies are effective for no longer than three years unless terminated by the Secretary; however, designations may be renewed according to the criteria and procedures prescribed in section 79(f) of the USGSA.

Authority: 7 U.S.C. 71-87k.

Larry Mitchell,
Administrator, Grain Inspection, Packers and Stockyards Administration.

[FR Doc. 2014-14003 Filed 6-13-14; 8:45 am]

BILLING CODE 3410-KD-P